DEPARTMENT OF HOMELAND SECURITY

Federal Emergency Management Agency

44 CFR Part 67

[Docket ID FEMA-2010-0003; Internal Agency Docket No. FEMA-B-1136]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before December 13, 2010.

ADDRESSES: The corresponding preliminary Flood Insurance Rate Map (FIRM) for the proposed BFEs for each community is available for inspection at the community's map repository. The respective addresses are listed in the table below.

You may submit comments, identified by Docket No. FEMA-B-1136, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Itawamba County, Mississippi, and Incorporated Areas
Tennessee-Tombigbee Waterway | Approximately 3.0 miles upstream of the confluence with Coaches Branch | +250 | +251 | City of Fulton, Unincorporated Areas of Itawamba County.
| At the Lock D dam | +271 | +282
Tennessee-Tombigbee Waterway | Approximately 3.7 miles upstream of the confluence with Mud Creek | None | +300 | Unincorporated Areas of Itawamba County.
| Approximately 400 feet upstream of the Lock E dam | None | +330
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Fulton
Maps are available for inspection at City Hall, 213 West Wiygul Street, Fulton, MS 38843.
Unincorporated Areas of Itawamba County
Maps are available for inspection at the Itawamba County Courthouse, 201 West Main Street, Fulton, MS 38843.
Monroe County, Mississippi, and Incorporated Areas
Burketts Creek | At the confluence with the Tennessee-Tombigbee Canal | None | +220 | City of Amory, Unincorporated Areas of Monroe County.
| At the confluence with Burketts Creek Diversion Channel—Upper Burketts Creek | None | +242
Burketts Creek Diversion Channel—Upper Burketts Creek | At the confluence with the Tennessee-Tombigbee Canal | +239 | +240 | City of Amory, Unincorporated Areas of Monroe County.
| Approximately 0.5 mile upstream of Phillips Schoolhouse Road | +246 | +249
Burketts Creek Tributary No. 1 | At the confluence with Burketts Creek | +238 | +239 | City of Amory, Unincorporated Areas of Monroe County.
| Approximately 1,055 feet upstream of Tschudi Road | None | +253
City Ditch | At the confluence with the Tombigbee River | +193 | +191 | City of Aberdeen, Unincorporated Areas of Monroe County.
| Approximately 1.0 mile upstream of the confluence with the Tombigbee River | +194 | +193
Old Tombigbee River—Mattubby Creek | At the confluence with the Tombigbee River | +194 | +192 | City of Aberdeen, Unincorporated Areas of Monroe County.
| Approximately 0.6 mile upstream of North Meridian Street/Coontail Road | +196 | +197
Roundhouse Branch | Approximately 500 feet upstream of Dalrymple Drive | +244 | +243 | City of Amory.
| At the confluence with Burketts Creek Tributary No. 1 | +245 | +243
Tennessee Tombigbee Canal | Approximately 1.3 mile downstream of State Highway 278 | +209 | +210 | City of Amory, Unincorporated Areas of Monroe County.
| At the Lock B dam | +223 | +236
Tombigbee River | Approximately 10.3 miles downstream of U.S. Route 45 | +187 | +188 | City of Aberdeen, Unincorporated Areas of Monroe County.
| Approximately 9.5 miles upstream of U.S. Route 45 | +208 | +207
Weaver Creek | At the confluence with the Tombigbee River | +207 | +206 | Unincorporated Areas of Monroe County.
| Approximately 2.3 miles upstream of the confluence with the Tombigbee River | +207 | +206
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Aberdeen
Maps are available for inspection at City Hall, 125 West Commerce Street, Aberdeen, MS 39730.
City of Amory
Maps are available for inspection at City Hall, 109 Front Street South, Amory, MS 38821.
Unincorporated Areas of Monroe County
Maps are available for inspection at the Monroe County Courthouse, 301 South Chestnut Street, Aberdeen, MS 39730.

(Catalog of Federal Domestic Assistance No. 97.022, “Flood Insurance.”)

Dated: September 1, 2010.
Sandra K. Knight,
Deputy Federal Insurance and Mitigation Administrator, Mitigation, Department of Homeland Security, Federal Emergency Management Agency.

[FR Doc. 2010-22762 Filed 9-10-10; 8:45 am]

BILLING CODE 9110-12-P